DEPARTMENT OF ENERGY

Office of Energy Efficiency and Renewable Energy

Federal Energy Management Program; Standard for Premium Energy Efficient Electric Motors for Federal Acquisition

AGENCY: Office of Energy Efficiency and Renewable Energy, Department of Energy (DOE).

ACTION: Notice and request for comments.

SUMMARY: The Energy Policy Act of 2005 (EPAct 2005) requires that in the case of electric motors of 1 to 500 horsepower, Federal agencies shall select only premium efficient motors that meet a standard designated by the Secretary of Energy (Secretary). DOE today designates the energy efficient motor specifications, developed under Executive Order 13123, as the temporary standard for premium efficient motors for purposes of Federal purchasing. Consistent with public comment requirements for “procurement policies” in 41 U.S.C. 418b, DOE invites public comment on the temporary standard. DOE intends to finalize a standard after considering any public comments that are submitted. The temporary specifications are consistent with standards recommended by the National Electrical Manufacturers Association (NEMA), the Consortium for Energy Efficiency (CEE) and other energy efficiency groups.

DATES: The effective date of this notice is February 14, 2006. Comments on this notice are due March 16, 2006.

ADDRESSES: Address all comments concerning this standard to Joan Glickman, U.S. Department of Energy, Office of Energy Efficiency and Renewable Energy, EE-2L, 1000 Independence Avenue, SW., Washington, DC 20585-0121, (202) 586-0371, e-mail: joan.glickman@ee.doe.gov.

FOR FURTHER INFORMATION CONTACT: Joan Glickman, U.S. Department of Energy, Office of Energy Efficiency and Renewable Energy, Federal Energy Management Program (FEMP), EE-2L, 1000 Independence Avenue, SW., Washington, DC 20585-0121, (202) 586-0371, e-mail: joan.glickman@ee.doe.gov.

SUPPLEMENTARY INFORMATION: Section 104 of EPAct 2005 requires that Federal agencies procure only ENERGY STAR qualified products or FEMP-designated products unless the agency finds in writing that no qualifying product is lifecycle cost-effective or is reasonably available that meets the applicable functional requirements. Prior to enactment of EPAct 2005, similar provisions for energy-efficient Federal purchasing were established under Executive Order 13123. With respect to motors, in response to Executive Order 13123, FEMP worked with NEMA and CEE to establish efficiency criteria for low-voltage electric motors as a voluntary standard for Federal procurements.

Part 3 of Title V of the National Energy Conservation Policy Act (42 U.S.C. 8251 et seq.), as amended by section 104 of EPAct 2005, requires that in the case of electric motors of 1 to 500 horsepower, Federal agencies shall purchase only premium efficient motors that meet a standard designated by the Secretary no later than 120 days after the date of enactment; EPAct 2005 was enacted on August 8, 2005.

After consultation with NEMA and representatives of energy efficiency organizations participating in the CEE Motors Committee, and subject to evaluation of public comments, DOE today designates as a temporary standard for premium energy efficient motors rated from 1 to 500 HP, the efficiency levels as set forth in Tables 1 and 2 attached to this notice. The efficiency levels in these tables are consistent with the NEMA Premium™ and Premium Efficiency Motors efficiency criteria. They can also be found on the DOE FEMP procurement Web site at http://www.eere.energy.gov/femp/technologies/eep_emotors.cfm, the NEMA Web site at http://www.nema.org/gov/energy/efficiency/premium/, and the CEE Web site at http://www.cee1.org/ind/motrs/motrs-main.php3.

By using common specifications for premium energy efficient motors, NEMA, CEE, and DOE have helped focus market demand by Federal buyers and utility company customers on a single standard for energy efficiency, thus providing a clear market signal in support of energy efficiency to manufacturers, suppliers, specifiers, and installers of electric motors.

FEMP will periodically review the DOE's motor efficiency standard and revise it as necessary, in consultation with industry and energy efficiency organizations, to reflect technology advances and/or changing market conditions.

DOE finds that the statutory deadline in section 104 is an urgent and compelling circumstance warranting designation of the standard set forth in this notice on a temporary basis pending receipt and evaluation of public comments. DOE intends to make a final designation after considering any relevant comments that DOE receives.

Issued in Washington, DC, on February 3, 2006.
Douglas L. Faulkner,
Acting Assistant Secretary, Energy Efficiency and Renewable Energy.

Table 1.—Nominal Efficiencies for “NEMA Premium™” Induction Motors Rated 600 Volts or Less
[Random wound]
Open drip-proof: HP | Open drip-proof: 6-pole | Open drip-proof: 4-pole | Open drip-proof: 2-pole | Totally enclosed fan-cooled: 6-pole | Totally enclosed fan-cooled: 4-pole | Totally enclosed fan-cooled: 2-pole
1 | 82.5 | 85.5 | *77.0 | 82.5 | 85.5 | 77.0
1.5 | 86.5 | 86.5 | 84.0 | 87.5 | 86.5 | 84.0
2 | 87.5 | 86.5 | 85.5 | 88.5 | 86.5 | 85.5
3 | 88.5 | 89.5 | 85.5 | 89.5 | 89.5 | 86.5
5 | 89.5 | 89.5 | 85.5 | 89.5 | 89.5 | 88.5
7.5 | 90.2 | 91.0 | 88.5 | 91.0 | 91.7 | 89.5
10 | 91.7 | 91.7 | 89.5 | 91.0 | 91.7 | 90.2
15 | 91.7 | 93.0 | 90.2 | 91.7 | 92.4 | 91.0
20 | 92.4 | 93.0 | 91.0 | 91.7 | 93.0 | 91.0
25 | 93.0 | 93.6 | 91.7 | 93.0 | 93.6 | 91.7
30 | 93.6 | 94.1 | 91.7 | 93.0 | 93.6 | 91.7
40 | 94.1 | 94.1 | 92.4 | 94.1 | 94.1 | 92.4
50 | 94.1 | 94.5 | 93.0 | 94.1 | 94.5 | 93.0
60 | 94.5 | 95.0 | 93.6 | 94.5 | 95.0 | 93.6
75 | 94.5 | 95.0 | 93.6 | 94.5 | 95.4 | 93.6
100 | 95.0 | 95.4 | 93.6 | 95.0 | 95.4 | 94.1
125 | 95.0 | 95.4 | 94.1 | 95.0 | 95.4 | 95.0
150 | 95.4 | 95.8 | 94.1 | 95.0 | 95.8 | 95.0
200 | 95.4 | 95.8 | 95.0 | 95.8 | 96.2 | 95.4
250 | 95.4 | 95.8 | 95.0 | 95.8 | 96.2 | 95.8
300 | 95.4 | 95.8 | 95.4 | 95.8 | 96.2 | 95.8
350 | 95.4 | 95.8 | 95.4 | 95.8 | 96.2 | 95.8
400 | 95.8 | 95.8 | 95.8 | 95.8 | 96.2 | 95.8
450 | 96.2 | 96.2 | 95.8 | 95.8 | 96.2 | 95.8
500 | 96.2 | 96.2 | 95.8 | 95.8 | 96.2 | 95.8

Table 2.—Nominal Efficiencies For “NEMA Premium™” Induction Motors Rated 5 kV or Less
[Form wound]
Open drip-proof: HP | Open drip-proof: 6-pole | Open drip-proof: 4-pole | Open drip-proof: 2-pole | Totally enclosed fan-cooled: 6-pole | Totally enclosed fan-cooled: 4-pole | Totally enclosed fan-cooled: 2-pole
250 | 95.0 | 95.0 | 94.5 | 95.0 | 95.0 | 95.0
300 | 95.0 | 95.0 | 94.5 | 95.0 | 95.0 | 95.0
350 | 95.0 | 95.0 | 94.5 | 95.0 | 95.0 | 95.0
400 | 95.0 | 95.0 | 94.5 | 95.0 | 95.0 | 95.0
450 | 95.0 | 95.0 | 94.5 | 95.0 | 95.0 | 95.0
500 | 95.0 | 95.0 | 94.5 | 95.0 | 95.0 | 95.0

[FR Doc. 06-1363 Filed 2-13-06; 8:45 am]

BILLING CODE 6450-01-P